DEPARTMENT OF TRANSPORTATION

Federal Motor Carrier Safety Administration

[Docket No. FMCSA-2016-0214]

Qualification of Drivers; Exemption Applications; Vision

AGENCY: Federal Motor Carrier Safety Administration (FMCSA), DOT.

ACTION: Notice of applications for exemptions; request for comments.

SUMMARY: FMCSA announces receipt of applications from 14 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before April 5, 2017. All comments will be investigated by FMCSA. The exemptions will be issued the day after the comment period closes.

ADDRESSES: You may submit comments bearing the Federal Docket Management System (FDMS) Docket No. FMCSA-2016-0214 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., e.t., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., e.t., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Ms. Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 14 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Tyler D. Baseman

Mr. Baseman, 31, has had amblyopia in his left eye since birth. The visual acuity in his right eye is 20/20, and in his left eye, 20/70. Following an examination in 2016, his optometrist stated, “In my medical opinion Mr. Baseman has sufficient vision to perform the driving tasks required to operate a commercial vehicle.” Mr. Baseman reported that he has driven straight trucks for 3 years, accumulating 90,000 miles, and tractor-trailer combinations for 3 years, accumulating 30,000 miles. He holds a Class A CDL from Minnesota. His driving record for the last 3 years shows no crashes and no convictions for moving violations in a CMV.

Robert A. Ferrucci

Mr. Ferrucci, 53, has had amblyopia in his right eye since childhood. The visual acuity in his right eye is 20/100, and in his left eye, 20/20. Following an examination in 2016, his optometrist stated, “In conclusion, Mr. Ferrucci has the required, stable vision to perform the driving tasks required to operate a commercial vehicle.” Mr. Ferrucci reported that he has driven straight trucks for 7 years, accumulating 105,000 miles. He holds an operator's license from Florida. His driving record for the last 3 years shows no crashes and no convictions for moving violations in a CMV.

Gary W. Fields

Mr. Fields, 56, has a cataract in his left eye due to a traumatic incident in childhood. The visual acuity in his right eye is 20/20, and in his left eye, counting fingers. Following an examination in 2016, his optometrist stated, “In my opinion he has sufficient vision to perform the driving tasks required to operate a commercial vehicle.” Mr. Fields reported that he has driven straight trucks for 22 years, accumulating 1.1 million miles. He holds an operator's license from Virginia. His driving record for the last 3 years shows no crashes and no convictions for moving violations in a CMV.

Michael D. Greene, Jr.

Mr. Greene, 35, has poor vision in his right eye due to inflammation in childhood. The visual acuity in his right eye is hand motion, and in his left eye, 20/20. Following an examination in 2016, his ophthalmologist stated, “It is my medical opinion that Mr. Green [sic] has sufficient vision to perform the driving tasks required to operate a commercial vehicle.” Mr. Greene reported that he has driven straight trucks for 18 years, accumulating 15,000 miles. He holds an operator's license from Vermont. His driving record for the last 3 years shows no crashes and no convictions for moving violations in a CMV.

Cory W. Haupt

Mr. Haupt, 47, has had a macular hole in his right eye due to a traumatic incident in childhood. The visual acuity in his right eye is counting fingers, and in his left eye, 20/20. Following an examination in 2016, his optometrist stated, “I certify, in my medical opinion, that Mr. Haupt is fully capable and visually competent to operate a commercial vehicle.” Mr. Haupt reported that he has driven straight trucks for 26 years, accumulating 78,000 miles. He holds a Class A CDL from South Dakota. His driving record for the last 3 years shows no crashes and no convictions for moving violations in a CMV.

Joseph E. Jones

Mr. Jones, 30, has had a retinal detachment in his right eye due to Von Hippel Lindau disease in childhood. The visual acuity in his right eye is no light perception, and in his left eye, 20/20. Following an examination in 2016, his ophthalmologist stated, “In my professional vision [sic], he has good enough vision for any kind of driver's license including a commercial driver's license.” Mr. Jones reported that he has driven straight trucks for 1 year, accumulating 30,000 miles, and tractor-trailer combinations for 3 years, accumulating 240,000 miles. He holds a Class A CDL from Georgia. His driving record for the last 3 years shows no crashes and one conviction for a moving violation in a CMV; he failed to obey a stop sign.

Peter W. Lampasone

Mr. Lampasone, 51, has had amblyopia in his right eye since birth. The visual acuity in his right eye is 20/50, and in his left eye, 20/20. Following an examination in 2016, his ophthalmologist stated, “In my opinion, this patient has sufficient vision to perform the driving tasks required to operate a commercial vehicle.” Mr. Lampasone reported that he has driven straight trucks for 20 years, accumulating 1.2 million miles. He holds an operator's license from New York. His driving record for the last 3 years shows no crashes and no convictions for moving violations in a CMV.

Edward H. Lampe

Mr. Lampe, 52, has had a prosthetic left eye since childhood. The visual acuity in his right eye is 20/20, and in his left eye, no light perception. Following an examination in 2016, his ophthalmologist stated, “In my opinion he has stable and sufficient vision to perform the driving tasks needed to operate a commercial vehicle.” Mr. Lampe reported that he has driven straight trucks for 19 years, accumulating 190,000 miles. He holds an operator's license from Oregon. His driving record for the last 3 years shows no crashes and no convictions for moving violations in a CMV.

Thomas L. Lange

Mr. Lange, 66, has had amblyopia in his right eye since 2011. The visual acuity in his right eye is 20/60, and in his left eye, 20/20. Following an examination in 2016, his optometrist stated, “I do certify that in my medical opinion, Mr. Lange has sufficient vision to perform the driving tasks required to safely operate a commercial motor vehicle (CMV).” Mr. Lange reported that he has driven tractor-trailer combinations for 30 years, accumulating 525,000 miles. He holds a Class A CDL from Colorado. His driving record for the last 3 years shows no crashes and no convictions for moving violations in a CMV.

Ronald R. Matheson

Mr. Matheson, 49, has a prosthetic right eye due to a traumatic incident in 2003. The visual acuity in his right eye is no light perception, and in his left eye, 20/20. Following an examination in 2016, his optometrist stated, “US Dept [sic] of Transportation . . . Vision is better than 20/40 in the left eye and visual field meets requirements.” Mr. Matheson reported that he has driven straight trucks for 20 years, accumulating 50,000 miles. He holds a Class B CDL from Wyoming. His driving record for the last 3 years shows no crashes and no convictions for moving violations in a CMV.

Jason C. Nicklow, Sr.

Mr. Nicklow, 41, has complete loss of vision in his right eye due to a traumatic incident in 1992. The visual acuity in his right eye is no light perception, and in his left eye, 20/20. Following an examination in 2016, his ophthalmologist stated, “If a commercial vehicle can be driven with one healthy eye with intact visual field than he should have sufficient vision to drive [sic].” Mr. Nicklow reported that he has driven straight trucks for 11 years, accumulating 22,000 miles, and tractor-trailer combinations for 10 years, accumulating 15,000 miles. He holds an operator's license from Pennsylvania. His driving record for the last 3 years shows no crashes and no convictions for moving violations in a CMV.

Lawrence M. Taylor

Mr. Taylor, 38, has had optic atrophy in his left eye since birth. The visual acuity in his right eye is 20/25, and in his left eye, light perception. Following an examination in 2016, his ophthalmologist stated, “As medical professionals, we feel his vision is sufficient to operate a commercial vehicle.” Mr. Taylor reported that he has driven straight trucks for 15 years, accumulating 195,000 miles. He holds an operator's license from Rhode Island. His driving record for the last 3 years shows no crashes and no convictions for moving violations in a CMV.

Eric M. Turton

Mr. Turton, 34, has had a prosthetic right eye due to micropthalmia since birth. The visual acuity in his right eye is no light perception, and in his left eye, 20/20. Following an examination in 2016, his optometrist stated, “In my opinion Eric Turton has sufficient vision to perform his commercial driving tasks.” Mr. Turton reported that he has driven straight trucks for 8 years, accumulating 520,000 miles. He holds an operator's license from New York. His driving record for the last 3 years shows no crashes and no convictions for moving violations in a CMV.

Kendrick T. Williams

Mr. Williams, 29, has had amblyopia in his left eye since childhood. The visual acuity in his right eye is 20/20, and in his left eye, 20/70. Following an examination in 2016, his optometrist stated, “In my professional opinion Kendrick has sufficient vision to perform the driving tasks required to operate a commercial vehicle.” Mr. Williams reported that he has driven tractor-trailer combinations for 3 years, accumulating 390,000 miles. He holds a Class A CDL from North Carolina. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2016-0214 in the “Keyword” box, and click “Search.” When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period. FMCSA may issue a final determination at any time after the close of the comment period.

Viewing Comments and Documents

To view comments, as well as documents mentioned in this preamble as being available in the docket, go to http://www.regulations.gov and insert the docket number FMCSA-2016-0214 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: February 27, 2017.
Larry W. Minor,
Associate Administrator for Policy.

[FR Doc. 2017-04257 Filed 3-3-17; 8:45 am]

BILLING CODE 4910-EX-P